DEPARTMENT OF TRANSPORTATION

Surface Transportation Board

[STB Finance Docket No. 34131]

Fort Worth and Western Railroad Company, Inc.—Acquisition and Operation Exemption—Union Pacific Railroad Company

Fort Worth and Western Railroad Company, Inc. (FWWR), a Class III rail carrier, has filed a verified notice of exemption under 49 CFR 1150.41 to acquire and operate rail lines owned by the Union Pacific Railroad Company (UP). FWWR will acquire, by lease, the full and exclusive rights to operate UP's Peach Yard, extending from milepost 611.20 to milepost 611.80 in Fort Worth, TX, excluding main line trackage. In addition, FWWR will acquire non-exclusive incidental trackage rights, solely for the purpose of interchanging traffic, over UP's main lines as follows: (1) Between mileposts 748.00 and 754.41, on the Choctaw Subdivision; (2) between mileposts 608.00 and 612.96, on the Duncan Subdivision, and between mileposts 250.00 and 251.03, on the Fort Worth Subdivision. The total route miles of trackage acquired under lease is 0.60 and under incidental trackage rights are 12.40.

Because the projected revenues of the rail lines to be operated will exceed $5 million, FWWR has certified to the Board that the required notice of its acquisition and operation was posted at the workplace of the employees on the affected lines and a copy of the notice was served on the national offices of the labor unions of the employees on the affected lines on October 25, 2001. See 49 CFR 1150.42(e). The earliest the transaction can be consummated is January 1, 2002, the effective date of the exemption (60 days after FWWR's November 2, 2001 certification to the Board).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34131, must be filed with the Surface Transportation Board, Office of the Secretary, Case Control Unit, 1925 K Street, NW., Washington, DC 20423-0001. In addition, a copy of each pleading must be served on Paul H. Lamboley, Esq., 1717 N Street, NW., Washington, DC 20036.

Board decisions and notices are available on our website at www.stb.dot.gov.

Decided: November 7, 2001.
By the Board, David M. Konschnik, Director, Office of Proceedings.
Vernon A. Williams,
Secretary.

[FR Doc. 01-28655 Filed 11-14-01; 8:45 am]

BILLING CODE 4915-00-P